SUSQUEHANNA RIVER BASIN COMMISSION

Grandfathering (GF) Registration Notice

AGENCY: Susquehanna River Basin Commission.

ACTION: Notice.

SUMMARY: This notice lists Grandfathering Registration for projects by the Susquehanna River Basin Commission during the period set forth in DATES.

DATES: August 1-31, 2020.

ADDRESSES: Susquehanna River Basin Commission, 4423 North Front Street, Harrisburg, PA 17110-1788.

FOR FURTHER INFORMATION CONTACT: Jason E. Oyler, General Counsel and Secretary to the Commission, telephone: (717) 238-0423, ext. 1312; fax: (717) 238-2436; email: joyler@srbc.net. Regular mail inquiries May be sent to the above address.

SUPPLEMENTARY INFORMATION: This notice lists GF Registration for projects, described below, pursuant to 18 CFR 806, Subpart E for the time period specified above:

Grandfathering Registration Under 18 CFR Part 806, Subpart E

1. Borough of Everett Area Municipal Authority—Public Water Supply System, GF Certificate No. GF-202008107, Everett Borough and West Providence Township, Bedford County, Pa.; Tatesville Tunnels, Well 1, and Well 2; Issue Date: August 12, 2020.

2. Carlisle Country Club, GF Certificate No. GF-202008108, Middlesex Township, Cumberland County, Pa.; Letort Spring Run and consumptive use; Issue Date: August 12, 2020.

3. Kerry, Inc.—Kerry Bio-Science, GF Certificate No. GF-202008109, Town of Norwich, Chenango County, N.Y.; Well 1, Well 2, and consumptive use; Issue Date: August 19, 2020.

4. Town of Owego—Water District #4, GF Certificate No. GF-202008110, Town of Owego, Tioga County, N.Y.; Well 1, Well 2, and Well 3; Issue Date: August 27, 2020.

Authority: Pub. L. 91-575, 84 Stat. 1509 et seq., 18 CFR parts 806 and 808.

Dated: September 22, 2020.
Jason E. Oyler,
General Counsel and Secretary to the Commission.

[FR Doc. 2020-21191 Filed 9-24-20; 8:45 am]

BILLING CODE 7040-01-P